DEPARTMENT OF AGRICULTURE

Forest Service

DEPARTMENT OF THE INTERIOR

Bureau of Land Management

Notice of Intent To Prepare an Environmental Impact Statement for the Sawtooth National Forest, Idaho; Twin Falls BLM District, ID; Bald Mountain Ski Resort Master Development Plan

AGENCIES: Forest Service, Agriculture, Lead Agency; Bureau of Land Management, Interior, Cooperating Agency.

ACTION: Notice of intent.

SUMMARY: Pursuant to the National Environmental Policy Act of 1969 (NEPA) and the Federal Land Policy and Management Act of 1976 (FLPMA), the USDA Forest Service (Lead Agency) and the USDOI Bureau of Land Management (Cooperating Agency) intend to prepare an Environmental Impact Statement (EIS) to analyze and disclose the effects of the updated Bald Mountain Ski Area Master Development Plan (MDP) and 40-year term ski area permit application. Both agencies have authority over the Bald Mountain ski area, which is also known as the Sun Valley Ski Resort.

DATES: Written comments concerning the proposed action should be postmarked by June 9, 2005. The draft environmental impact statement is expected to be available for public review and comment in July 2006 and the final environmental impact statement is expected to be available March 2007.

ADDRESSES: Written comments should be sent to Kurt Nelson, District Ranger at the Ketchum Ranger Station; P.O. Box 2356, Ketchum, ID 83340. Faxes should be sent to 208-622-3923 and e-mails to: comments-intermtn-sawtooth-ketchum@fs.fed.us. Comments received on this proposal, including names and addresses, will be considered part of the public record and will be available for public inspection. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Joe Miczulski, Winter Sports Manager at the Ketchum Ranger District; P.O. Box 2356, Ketchum, ID 83340; or phone at (208) 622-5371.

SUPPLEMENTARY INFORMATION: Sun Valley Company has requested a new 40-year term ski area permit for the Bald Mountain Ski Resort. The existing ski area permit, which was issued in December 1977, expires December 2007. One requirement for a ski area permit is to have an approved Master Development Plan (MDP), which is prepared by the permit holder and encompasses the entire winter sports resort envisioned for development and authorization by the permit. Upon acceptance by the Authorized Officers, the MDP becomes part of the ski area permit. The EIS will analyze the effects of the proposed action and alternatives. The agencies give notice of the National Environmental Policy Act (NEPA) analysis and decision making process on the proposal so interested and affected members of the public may participate and contribute to the final decision. The Sawtooth National Forest, as the lead for both agencies, invites written comments and suggestions on the scope of the analysis and the issues to address.

The 1989 MDP currently guides the Forest Service and BLM in their administration of the special use permit for the ski area. A majority of the actions described in the 1989 MDP have been implemented. Given the age and status of the 1989 MDP, the Forest Service, BLM, and Sun Valley Company determined that an updated plan would be appropriate at this time. Sun Valley Company has updated their MDP for Bald Mountain Ski Area and presented it to the Forest Service and BLM in conjunction with their request for a new 40-year permit to continue operating on these public lands. The existing ski resort permit expires December 2007.

The draft MDP as submitted by Sun Valley Company is available electronically on the following Web sites: Sawtooth National Forest— http://www.fs.fed.us/r4/sawtooth and Sun Valley Company— http://www.sunvalley.com. An approved MDP will guide development on Bald Mountain Ski Area. Anticipated projects include new ski trail development both inside and outside of the current permit boundary, additional snowmaking installation, existing ski run modification, installation of new ski lifts, including gondola, removal of some existing ski lifts, and addition of a mountain restaurant. A Vegetation Management Plan (VMP) will be developed concurrently with the MDP, and will be shown as an appendix in the proposed MDP and analyzed as part of the proposed action. The VMP will assess current conditions of vegetative components on Bald Mountain, both with respect to timber and grass/forb species. The VMP will specify treatments necessary to enact, that will ensure long-term health of vegetation on Bald Mountain.

Purpose and Need For Action

The purpose and need for the proposed MDP are as follows: Update the 1989 MDP to reflect current conditions and needs at the ski resort. Most of the improvements described in the 1989 MDP have been implemented. In addition, new ski area technologies, updated Land Management Plans, and changes in the environment have emerged during this time which warrant consideration in an updated MDP.

Proposed Action

The proposed action to be analyzed in this EIS is to implement the MDP as submitted by the Sun Valley Company. The Agencies have a responsibility to determine consistency of the MDP with their respective Land Management Plans, to evaluate if any proposed facilities are in hazardous areas (i.e. avalanche path); evaluate if improvements are an appropriate use of Forest Service and BLM land; determine if private land is available to accomplish the proposed activities; and to make a public interest determination.

Possible Alternatives

Possible alternatives include: Alt. 1—No Action (continuing the present course of action). The existing MDP would not be updated. The ski area permit would be renewed in 2007 and the current MDP would be made part of it. Alt. 2—Proposed Action, the MDP, as submitted by Sun Valley Company, would be attached to a new ski area permit. Other alternatives may be developed that meet the purpose and need and respond to issues associated with the proposed action.

Responsible Official

The responsible officials are the Forest Supervisor for the Sawtooth National Forest and the District Manager for the Twin Falls District of the Idaho BLM.

Nature of Decision To Be Made

The decision to be made is whether or not to approve the proposed MDP as a condition of the special use permit, or to approve an alternative to the proposed action. After a MDP is approved, a 40-year ski area resort permit would be issued.

Scoping Process

Public notices will be placed in local newspapers. Public meetings will be held in conjunction with Sun Valley Company. Informal public participation is encouraged throughout this process. Formal opportunity for public review and comment will be provided upon publication of the Draft EIS.

Comments Requested

This notice of intent initiates the scoping process which guides the development of the environmental impact statement for the update of the Bald Mountain Ski Resort MDP.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period for the draft environmental impact statement so that substantive comments and objections are made available to the Forest Service at a time when it can meaningfully consider them and respond to them in the final environmental impact statement.

To assist the Forest Service in identifying and considering issues raised by the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: March 15, 2005.
Ruth Monahan,
Sawtooth Forest Supervisor, Forest Service.

Dated: March 17, 2005.
Howard Hedrick,
Twin Falls District Manager, BLM.

[FR Doc. 05-9254 Filed 5-9-05; 8:45 am]

BILLING CODE 3410-11-P